DEPARTMENT OF DEFENSE

Department of the Army, Corps of Engineers

Intent To Prepare an Environmental Impact Statement for the Combined Operational Plan, Broward, Miami-Dade Counties, Florida

AGENCY: Department of the Army, U.S. Army Corps of Engineers, DOD.

ACTION: Notice of intent.

SUMMARY: The Jacksonville District, U.S. Army Corps of Engineers (Corps) is beginning preparation of a National Environmental Policy Act (NEPA) assessment for the Combined Operational Plan (COP). The purpose of the COP is to define operations for the constructed features of the Modified Water Deliveries to Everglades National Park (MWD) and Canal 111 (C-111) South Dade Projects, while maintaining the congressionally authorized purposes of the Central and Southern Florida (C&SF) Project to include flood control; water supply for agricultural irrigation, municipalities and industry; regional groundwater control and prevention of saltwater intrusion; enhancement of fish and wildlife; and recreation.

ADDRESSES: U.S. Army Corps of Engineers, Planning and Policy Division, Environmental Branch, P.O. Box 4970, Jacksonville, FL 32232-0019.

FOR FURTHER INFORMATION CONTACT: Melissa Nasuti at 904-232-1368 or email at melissa.a.nasuti@usace.army.mil.

SUPPLEMENTARY INFORMATION:

a. The COP will result in a comprehensive integrated water control plan for the operation of water management infrastructure associated with the MWD and C-111 South Dade Projects in Miami Dade County, Florida. Development of the COP will be informed by a series of operational field tests previously conducted under the authority of the MWD Project that include incremental increases in water delivered from Water Conservation Area 3 (WCA 3) to Everglades National Park (ENP). Information gained from water management actions taken by the Corps in response to unseasonable high water levels within the WCAs in 2016 and 2017 will also be utilized to inform development of the COP.

b. Implementation of the COP is anticipated to increase the availability of water deliveries from WCA 3A to ENP through Northeast Shark River Slough and improve hydrologic conditions in Taylor Slough, the Rocky Glades, and the eastern panhandle of ENP.

c. Water management operating criteria defined during development of the COP will be incorporated into the 2012 WCAs, ENP, and ENP to South Dade Conveyance system Water Control Plan following completion of NEPA.

d. A scoping letter will be used to invite comments from Federal, State, and local agencies, affected Indian tribes, and other interested private organizations and individuals.

e. All alternative plans will be reviewed under provisions of appropriate laws and regulations, including the Endangered Species Act, Fish and Wildlife Coordination Act, Clean Water Act, and Farmland Protection Policy Act.

f. The Draft Environmental Impact Assessment is expected to be available for public review in 2019.

Dated: August 22, 2017.
Gina Paduano Ralph,
Chief, Environmental Branch.

[FR Doc. 2017-19065 Filed 9-7-17; 8:45 am]

BILLING CODE 3720-58-P